DEPARTMENT OF ENERGY

Federal Energy Regulatory Commission

[Docket Nos. RT02-2-000, RT01-2-000, RT01-98-000, RT01-95-000, and RT01-86-000]

Notice of State-Federal Northeast Regional Panel Discussion

January 3, 2002.

In the matter of: State-Federal Regional RTO Panels; PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company, UGI Utilities Inc.; PJM Interconnection, L.L.C. and Allegheny Power; New York Independent System Operator, Inc., Central Hudson Gas & Electric Corporation, Consolidated Edison Company of New York, Inc., Niagara Mohawk Power Corporation, New York State Electric & Gas Corporation, Orange and Rockland Utilities, Inc., Rochester Gas & Electric Corporation; Bangor Hydro-Electric Company, Central Maine Power Company, National Grid USA, Northeast Utilities Service Company, The United Illuminating Company, Vermont Electric Power Company, ISO New England Inc.; Notice of State-Federal Northeast Regional Panel Discussion

Take notice that on January 9, 2002, a State-Federal Northeast Regional Panel discussion will be held, pursuant to the Commission's order issued November 9, 2001, in Docket No. RT02-2-000, et al.¹ A transcript of the panel discussion will be placed in the above listed dockets.

¹ Order Announcing the Establishment of State-Federal Regional Panels to Address RTO Issues, Modifying the Application of Rule 2201 in the Captioned Dockets, and Clarifying Order No. 607, 97 FERC ¶ 61,182 (2001).

Linwood A. Watson, Jr.,
Acting Secretary.

[FR Doc. 02-571 Filed 1-9-02; 8:45 am]

BILLING CODE 6717-01-P